DEPARTMENT OF HEALTH AND HUMAN SERVICES

Centers for Disease Control and Prevention

[30Day-22-22ES]

Agency Forms Undergoing Paperwork Reduction Act Review

In accordance with the Paperwork Reduction Act of 1995, the Centers for Disease Control and Prevention (CDC) has submitted the information collection request titled “Assessing Respirator Perceptions, Experiences, and Maintenance” to the Office of Management and Budget (OMB) for review and approval. CDC previously published a “Proposed Data Collection Submitted for Public Comment and Recommendations” notice on May 6, 2022, to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Assessing Respirator Perceptions, Experiences, and Maintenance—New—National Institute for Occupational Safety and Health (NIOSH), Centers for Disease Control and Prevention (CDC).

Background and Brief Description

The Centers for Disease Control and Prevention (CDC), National Institute for Occupational Safety and Health (NIOSH), is requesting approval of a new Generic information collection for a period of three years under the project titled “Assessing Respirator Perceptions, Experiences, and Maintenance.”

The National Personal Protective Technology Laboratory (NPPTL) is a division of NIOSH which operates within the CDC. NPPTL was established in 2001, at the request of Congress, with the mission of preventing disease, injury, and death for the millions of working men and women relying on personal protective technology (PPT). As the nation's respirator approver for all workplaces (42 CFR part 84), the development of NPPTL filled a need for improved personal protective equipment (PPE) and focused research into PPT. To this end, NPPTL conducts respiratory protection research to examine exposures to inhalation hazards, dermal hazards, and any other hazardous environmental threats within an occupational setting.

Federal regulations exist regarding the use of respirators in the workplace. The Occupational Safety and Health Administration (OSHA) requires employers whose hazard management includes the use of respirators to have a respiratory protection program (RPP), which has specified components. Thus, the information collected from human subjects about their use of respirators is generally consistent across NPPTL studies with only the use conditions changing (e.g., respirator type or management implementation practices related to cleaning/decontamination, fit testing, and training). NPPTL requests a Generic information collection package for information collected from individual workers and managers related to the perceptions, maintenance, and evaluation of respirator use on the job.

Different types of data collection including surveys, focus groups, interviews, and physiological monitoring will be used to: (1) assess workers' health and safety knowledge, attitudes, skills, and other personal attributes as they relate to their respiratory protection use and maintenance; (2) identify and overcome barriers that workers face while using respiratory protection to prevent exposure to contaminants and other hazards; (3) understand organizations' maintenance of RPP directives, and guidelines that support worker best practices; and (4) determine appropriate training, interventions, and programs that support activities around respirator use and maintenance. Data collection may focus on respirator types ubiquitous to the industry being studied, new to the industry being studied, or novel to any industry. These data collection efforts may occur either electronically or in the field.

Respondents are expected to include a variety of employees from occupations such as public safety and emergency response, healthcare, and social assistance occupations who wear or manage respirator use on the job. Expected respondent job roles include industrial hygienists, occupational health professionals, infection control professionals, physicians, nurse practitioners, nurses, infection preventionists, fire department chiefs, battalion chiefs, sheriffs, shift supervisors, firefighters, police officers, and paramedics. CDC requests OMB approval for an estimated 643,626 total burden hours with an estimated annual burden of 214,542 hours. There is no cost to respondents other than their time to participate.

Estimated Annualized Burden Hours
Type of respondent | Form name | Number of respondents | Number of responses per respondent | Average hours per response
Individuals who wear respirators in any occupational setting or oversee/advise on respirator use | Informed consent Demographics standardized survey with decision logic allowing some questions to be omitted | 110,000 110,000 | 1 1 | 5/60 15/60
| Qualitative fit testing survey measurements | 675 | 20 | 15/60
| Perceptions-based survey instrument | 105,000 | 2 | 15/60
| Knowledge-based survey instrument | 105,000 | 2 | 30/60
| Interview/Focus group | 4,000 | 2 | 1
| Physiological Monitoring: Heart rate, blood pressure, blood oxygen saturation, breathing rate, etc | 1,000 | 1 | 9

Jeffrey M. Zirger,
Information Collection Review Office, Office of Scientific Integrity, Office of Science, Centers for Disease Control and Prevention.

[FR Doc. 2022-21214 Filed 9-29-22; 8:45 am]

BILLING CODE 4163-18-P